DEPARTMENT OF ENERGY

Federal Energy Regulatory Commission

[Docket No. RM05-30-000]

Rules Concerning Certification of the Electric Reliability Organization; and Procedures for the Establishment, Approval, and Enforcement of Electric Reliability Standards; Notice of Technical Conferences

November 3, 2005.

Take notice that two technical conferences will be held in the offices of the Federal Energy Regulatory Commission, 888 First Street, NE., Washington, DC. All interested persons may attend, and registration is not required. This will be a staff conference, but Commissioners also may attend.

These technical conferences will address industry perspectives on certain issues, which are the subject of the Notice of Proposed Rulemaking in Docket No. RM05-30-000. The discussions will focus on the process that the Electric Reliability Organization (ERO) will use in proposing the new mandatory reliability standards, the role of regional entities in that process, and how existing reliability standards can be improved over time.

The first technical conference will be held on Friday, November 18, 2005, from approximately 9:30 a.m. until 4 p.m. (EST), in the Commission Meeting Room on the second floor of the Commission. A follow-up technical conference is tentatively scheduled for Friday, December 9, 2005. Additional details for both conferences, including agendas, panelists, and the time and location for the December conference, will be provided at a later time.

Transcripts of the conferences will be immediately available from Ace Reporting Company (202-347-3700 or 1-800-336-6646) for a fee. They will be available for the public on the Commission's eLibrary system seven calendar days after the Commission receives the transcript. Additionally, Capitol Connection offers the opportunity for remote listening and viewing of the conferences. It is available for a fee, live over the Internet, by phone or via satellite. Persons interested in receiving the broadcasts, or who need information on making arrangements should contact David Reininger or Julia Morelli at the Capitol Connection (703-993-3100) as soon as possible or visit the Capitol Connection Web site at http://www.capitolconnection.gmu.edu and click on “FERC.”

Commission conferences are accessible under section 508 of the Rehabilitation Act of 1973. For accessibility accommodations please send an e-mail to accessibility@ferc.gov or call toll free 866-208-3372 (voice) or 202-208-1659 (TTY), or send a FAX to 202-208-2106 with the required accommodations.

For more information about these conferences, please contact Yvonne Bartoli at (202) 502-6054 (yvonne.bartoli@ferc.gov) or Sarah McKinley at (202) 502-8004 (sarah.mckinley@ferc.gov).

Magalie R. Salas,
Secretary.

[FR Doc. E5-6204 Filed 11-9-05; 8:45 am]

BILLING CODE 6717-01-P